DEPARTMENT OF AGRICULTURE

Animal and Plant Health Inspection Service

[Docket No. APHIS-2011-0079]

Guidelines for the Control of Tuberculosis in Elephants

AGENCY: Animal and Plant Health Inspection Service, USDA.

ACTION: Notice of Availability.

SUMMARY: We are advising the public that the Animal and Plant Health Inspection Service intends to use the 2010 guidelines issued by the United States Animal Health Association to assess compliance with the animal welfare regulations as related to elephant tuberculosis as well as to aid users in their compliance with those regulations. We accept these guidelines as meeting the requirements in the Animal Welfare Act and are making them available for review. We welcome comment on our intention to utilize the guidelines as a means of assessing compliance with our regulations.

DATES: We will consider all comments that we receive on or before March 5, 2013.

ADDRESSES: You may submit comments by either of the following methods:

• Federal eRulemaking Portal: Go to http://www.regulations.gov/#!documentDetail;D=APHIS-2011-0079-0001.

• Postal Mail/Commercial Delivery: Send your comment to Docket No. APHIS-2011-0079, Regulatory Analysis and Development, PPD, APHIS, Station 3A-03.8, 4700 River Road Unit 118, Riverdale, MD 20737-1238.

The guidelines and any comments we receive on this docket may be viewed at http://www.regulations.gov/#!docketDetail;D=APHIS-2011-0079 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Barbara Kohn, Senior Staff Veterinarian, Animal Care, APHIS, 4700 River Road Unit 84, Riverdale, MD 20737-1234; (301) 851-3751.

SUPPLEMENTARY INFORMATION:

Background

The Animal Welfare Act (7 U.S.C. 2131-2159, AWA) authorizes the Secretary of Agriculture (the Secretary) to promulgate rules and standards and other requirements governing the humane handling, housing, care, treatment, and transportation of certain animals by dealers, exhibitors, research facilities, and other regulated entities. The Secretary has delegated the responsibility for enforcing the AWA to the Administrator of the Animal and Plant Health Inspection Service (APHIS). The APHIS Animal Care program ensures compliance with AWA regulations and standards. Regulations established under the AWA are contained in 9 CFR parts 1, 2, and 3. Currently, part 2 consists of subparts A through I, which contain regulations pertaining to licensing and registration of dealers, exhibitors, and research facilities, and standards for veterinary care, identification of animals, and recordkeeping.

The Attending Veterinarian and Adequate Veterinary Care regulations contained in Subpart C and Subpart D are performance standards that do not prescribe specific measures to be undertaken in order to be in compliance with those regulations. Pursuant to the regulations, research facilities, dealers, and exhibitors are required to provide “adequate veterinary care” to the animals in their custody. A research facility, dealer, or exhibitor that employs a part-time attending veterinarian (rather than a full-time attending veterinarian) must do so under “formal arrangements” that “shall include a written program of veterinary care.” Each research facility, dealer, and exhibitor is required to “establish and maintain programs of adequate veterinary care.” In 1998, APHIS adopted the use of a document entitled “Guidelines for the Control of Tuberculosis in Elephants” developed by The National Tuberculosis Working Group for Zoo and Wildlife Species in order to address the emerging issue of tuberculosis in elephants and to provide the licensees and registrants with concrete ways to meet the standards established in subpart D with regard to elephant tuberculosis. This guidance document has been modified at various times since then in order to incorporate new information and to improve recommended practices. These guidelines have been utilized by APHIS to monitor and address elephant tuberculosis under the AWA.

In November 2010, the Tuberculosis Committee of the United States Animal Health Association (USAHA), which has taken over administration of the guidelines from The National Tuberculosis Working Group for Zoo and Wildlife Species, approved revisions to the guidelines. Following the release of the 2010 revised guidelines, USAHA submitted a recommendation to APHIS for the implementation of the newest version of the guidelines, “Guidelines for the Control of Tuberculosis in Elephants 2010.” We have reviewed the revised guidelines and find them to be in line with the requirements of the AWA. We have determined that the 2010 guidelines are useful to determine whether research facilities, dealers, and exhibitors meet the regulations' minimum requirements for the provision of “adequate veterinary care” to elephants and the establishment and maintenance of programs of adequate veterinary care for elephants with respect to tuberculosis. We have therefore determined that it is appropriate for APHIS to continue to utilize these guidelines to assess compliance with the regulations in 9 CFR subparts C and D. We welcome comments from the public regarding this determination to use the guidelines in this manner. Given that APHIS is not the author of the document, we are unable to make changes to specific provisions contained in the guidelines. Accordingly, we are seeking comments on the overall suitability of the document as a means of assessing compliance with our regulations in 9 CFR subparts C and D.

Copies of the document are available on the Internet via the Federal eRulemaking Portal at http://www.regulations.gov/#!docketDetail;D=APHIS-2011-0079, on the Animal Care Web site at http://www.aphis.usda.gov/animal_welfare/index.shtml, or from the person listed under FOR FURTHER INFORMATION CONTACT.

Done in Washington, DC, this 20th day of December 2012.
Kevin Shea,
Acting Administrator, Animal and Plant Health Inspection Service.

[FR Doc. 2012-31644 Filed 1-3-13; 8:45 am]

BILLING CODE 3410-34-P